DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period September 9, 2006 Through September 29, 2006
Firm | Address | Date petition accepted | Product
Boehringer Laboratories, Inc. | 500 E. Washington Street, Norristown, PA 19401 | 9/6/06 | Medical instruments, surgical appliances and supplies.
BMCO Architectural Millwork, Ltd. | 2727 Coombsville, Dallas, TX 75212 | 9/6/06 | Custom millwork, including kitchen cabinets, doors, moldings and windows.
Alpha Electronics International, Inc. | 767 Edgewood Avenue, Wood Dale, IL 60191 | 9/6/06 | Plastic printed circuit board design, fabrication and complete turn-key manufacturing.
Austin-Westran, LLC | 602 East Blackhawk Drive, Byron, IL 61010 | 9/18/06 | Metal trailer support legs for original equipment manufacturers of semi trailers, for transportation fleets and for service parts markets.
FXP Marketing International, Inc. dba Novelcrafts Manufacturing Company, Inc | 5309 Rogue River Highway, Rogue River, OR 97537 | 9/18/06 | Wire display racks.
Mrs. Wheat's Fabulous Foods, Inc. | 4532 Marais Street, New Orleans, LA 70117 | 9/18/06 | Meat pies.
R&D Tool & Engineering Co. | 1009 Browning Street, Lee's Summit, MO 64084 | 9/18/06 | Precision molds for packaging industry.
American Ink Jet Corporation | 13 Alexander Road, Billerica, MA 01821 | 9/18/06 | Inks for the inkjet printer industry.
Judy Havelka Enterprises, Inc. | 4913 Airport Freeway, Fort Worth, TX 76117 | 9/28/06 | Botanicals, perfume oils and candles.
GSC Chipotle Texas Ltd. | 101 Port of Entry Road, P.O. Box 158, Ft. Hancock, TX 79839 | 9/28/06 | Anaheim peppers.
Westerbeke Corporation | 150 John Hancock Road, Taunton, MA 02780 | 9/28/06 | Marine engines and air-conditioning products.
Pastry House, Inc. (The) | 94 Kean Street, West Babylon, NY 11704 | 9/28/06 | Baked goods.
Reynolds & Reynolds Electronics, Inc. | 521 E. Fourth Street, Bethlehem, PA 18015 | 9/28/06 | Electric emergency energy equipment for elevators.

Any party having a substantial interest in these proceedings may request a public hearing on the matter. A written request for a hearing must be submitted to the Office of Chief Counsel, Room 7005, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: September 29, 2006.
Barry Bird,
Chief Counsel.

[FR Doc. E6-16451 Filed 10-4-06; 8:45 am]

BILLING CODE 3510-24-P